DEPARTMENT OF JUSTICE

Antitrust Division

Notice Pursuant to the National Cooperative Research and Production Act of 1993—Joint Venture Under Tip Award No. 70NANB10H018

Notice is hereby given that, on January 11, 2010, pursuant to Section 6(a) of the National Cooperative Research and Production Act of 1993, 15 U.S.C. 4301 et seq. (“the Act”), the Joint Venture under TIP Award No. 70NANB10H018 (“JV TIP H018”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Rensselaer Polytechnic Institute, Troy, NY and Geocomp Corporation, Boxborough, MA. The general area of JV TIP H018's planned activity is the development of a new health assessment framework, ranging from a satellite-based radar system to local sensor arrays to monitor and ensure the safety of levees and other distributed systems of a flood-control infrastructure.

Patricia A. Brink,
Deputy Director of Operations, Antitrust Division.

[FR Doc. 2010-3089 Filed 2-19-10; 8:45 am]

BILLING CODE 4410-11-M